DEPARTMENT OF ENERGY

Federal Energy Regulatory Commission

[Docket Nos. RP03-13-004 and RP01-236-014]

Transcontinental Gas Pipe Line Corporation; Notice of Compliance Filing

January 30, 2004.

Take notice that on January 23, 2004, Transcontinental Gas Pipe Line Corporation (Transco) tendered for filing to its FERC Gas Tariff, Third Revised Volume No. 1, Second Revised Sheet No. 374O.01, which tariff sheet is proposed to be effective January 23, 2004.

Transco states that the purpose of this filing is to comply with the Commission's “Order on Tariff Filing and Request for Clarification” issued on December 24, 2003, in the referenced dockets, in which the Commission directed Transco to file, within 30 days, revised tariff sheets to modify its right of first refusal provisions.

Transco states that copies of the filing are being mailed to parties included on the official service list in the referenced dockets, interested State Commissions, and other interested parties.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-206 Filed 2-5-04; 8:45 am]

BILLING CODE 6717-01-P